DEPARTMENT OF HOMELAND SECURITY

Federal Emergency Management Agency

[Docket ID FEMA-2017-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 28, 2017.
Roy E. Wright,
Deputy Associate Administrator for Insurance and Mitigation, Department of Homeland Security, Federal Emergency Management Agency.

State and county | Location and case No. | Chief executive officer of community | Community map repository | Date of modification | Community No.
Colorado:
Broomfield (FEMA Docket No.: B-1700) | City and County of Broomfield (16-08-0399P) | The Honorable Randy Ahrens, Mayor, City and County of Broomfield, 1 DesCombes Drive, Broomfield, CO 80020 | Engineering Department, 1 DesCombes Drive, Broomfield, CO 80020 | Apr. 21, 2017 | 085073
Florida:
Charlotte (FEMA Docket No.: B-1672) | Unincorporated areas of Charlotte County (16-04-6702P) | The Honorable Bill Truex, Chairman, Charlotte County Board of Commissioners, 18500 Murdock Circle, Port Charlotte, FL 33948 | Charlotte County Floodplain Management Department, 18500 Murdock Circle, Port Charlotte, FL 33948 | Apr. 4, 2017 | 120061
Charlotte (FEMA Docket No.: B-1700) | Unincorporated areas of Charlotte County (16-04-6809P) | The Honorable Bill Truex, Chairman, Charlotte County Board of Commissioners, 18500 Murdock Circle, Port Charlotte, FL 33948 | Charlotte County Floodplain Management Department, 18500 Murdock Circle, Port Charlotte, FL 33948 | Apr. 12, 2017 | 120061
Collier (FEMA Docket No.: B-1672) | City of Naples (16-04-8542P) | The Honorable Bill Barnett, Mayor, City of Naples, 735 8th Street South, Naples, FL 34102 | Building Department, 295 Riverside Circle, Naples, FL 34102 | Apr. 5, 2017 | 125130
Monroe (FEMA Docket No.: B-1700) | Unincorporated areas of Monroe County (17-04-0132P) | The Honorable George Neugent, Mayor, Monroe County Board of Commissioners, 25 Ships Way, Big Pine Key, FL33043 | Monroe County Building Department, 2798 Overseas Highway, Marathon, FL 33050 | Apr. 13, 2017 | 125129
Osceola (FEMA Docket No.: B-1700) | City of Kissimmee (16-04-5037P) | The Honorable Jose Alvarez, Mayor, City of Kissimmee, 101 Church Street, Kissimmee, FL 34741 | City Hall, 101 Church Street, Kissimmee, FL 34741 | Apr. 21, 2017 | 120190
Seminole (FEMA Docket No.: B-1700) | Unincorporated areas of Seminole County (17-04-0173P) | The Honorable John Horan, Chairman, Seminole County Board of Commissioners, 1101 East 1st Street, Sanford, FL 32771 | Seminole County Development Review Division, 1101 East 1st Street, Sanford, FL 32771 | Apr. 21, 2017 | 120289
Massachusetts:
Bristol (FEMA Docket No.: B-1700) | Town of Fairhaven (17-01-0064P) | The Honorable Charles K. Murphy, Sr., Chairman, Town of Fairhaven Board of Selectmen, 40 Center Street, Fairhaven, MA 02719 | Town Hall, 40 Center Street, Fairhaven, MA 02719 | Apr. 21, 2017 | 250054
Essex (FEMA Docket No.: B-1700) | Town of Essex (16-01-0826P) | The Honorable Lisa J. O'Donnell, Chair, Town of Essex, Board of Selectmen, 30 Martin Street, Essex, MA 01929 | Town Hall, 30 Martin Street, Essex, MA 01929 | Apr. 10, 2017 | 250080
Essex (FEMA Docket No.: B-1700) | Town of Ipswich (16-01-0826P) | Ms. Robin Crosbie, Manager, Town of Ipswich, 25 Green Street, Ipswich, MA 01938 | Town Hall, 25 Green Street, Ipswich, MA 01938 | Apr. 10, 2017 | 250086
Norfolk (FEMA Docket No.: B-1700) | City of Quincy (17-01-0360X) | The Honorable Thomas P. Koch, Mayor, City of Quincy, 1305 Hancock Street, Quincy, MA 02169 | Department of Public Works, 55 Sea Street, Quincy, MA 02169 | Apr. 14, 2017 | 255219
Plymouth (FEMA Docket No.: B-1700) | Town of Marion (16-01-2701P) | The Honorable Jonathan E. Dickerson, Chairman, Board of Selectmen, 2 Spring Street, Marion, MA 02738 | Building Department, 2 Spring Street, Marion, MA 02738 | Apr. 14, 2017 | 255213
Montana:
Flathead (FEMA Docket No.: B-1700) | Unincorporated areas of Flathead County (16-08-0919P) | The Honorable Pamela Holmquist, Chair, Flathead County, Board of Commissioners, 800 South Main Street, Suite 302, Kalispell, MT 59901 | Flathead County Planning and Zoning Department, 40 11th Street West, Suite 220, Kalispell, MT 59901 | Apr. 20, 2017 | 300023
Oklahoma:
Rogers (FEMA Docket No.: B-1672) | City of Collinsville (16-06-2264P) | The Honorable Bud York, Mayor, City of Collinsville, P.O. Box 730, Collinsville, OK 74021 | Engineering Department, 106 North 12th Street, Collinsville, OK 74021 | Apr. 6, 2017 | 400360
Rogers (FEMA Docket No.: B-1672) | Unincorporated areas of Rogers County (16-06-2264P) | The Honorable Dan Delozier, Chairman, Rogers County Board of Commissioners, 200 South Lynn Riggs Boulevard, Clamore, OK 74017 | Rogers County Planning and Development Department, 200 South Lynn Riggs Boulevard, Clamore, OK 74017 | Apr. 6, 2017 | 405379
South Dakota:
Pennington (FEMA Docket No.: B-1700) | City of Box Elder (16-08-1014P) | The Honorable Larry Larson, Mayor, City of Box Elder, 420 Villa Drive, Box Elder, SD 57719 | City Hall, 420 Villa Drive, Box Elder, SD 57719 | Apr. 5, 2017 | 460089
Texas:
Bexar (FEMA Docket No.: B-1700) | City of San Antonio (16-06-1504P) | The Honorable Ivy R. Taylor, Mayor, City of San Antonio, P.O. Box 839966, San Antonio, TX 78283 | Transportation and Capital Improvements Department, Storm Water Division, 1901 South Alamo Street, San Antonio, TX 78204 | Apr. 19, 2017 | 480045
Bexar (FEMA Docket No.: B-1700) | City of Schertz (16-06-3179P) | The Honorable Michael Carpenter, Mayor, City of Schertz, 1400 Schertz Pkwy, Schertz, TX 78154 | Public Works Department, 10 Commercial Place, Schertz, TX 78154 | Apr. 18, 2017 | 480269
Bexar (FEMA Docket No.: B-1700) | Unincorporated areas of Bexar County (16-08-4345P) | The Honorable Nelson W. Wolff, Bexar County Judge, 101 West Nueva Street, 10th Floor, San Antonio, TX 78205 | Bexar County Public Works Department, 33 North Pecos-La Trinidad Street, Suite 420, San Antonio, TX 78207 | Apr. 20, 2017 | 480035
Guadalupe (FEMA Docket No.: B-1700) | City of Schertz (16-06-4249P) | The Honorable Michael Carpenter, Mayor, City of Schertz, 1400 Schertz Parkway, Schertz, TX 78154 | Public Works Department, 10 Commercial Place, Schertz, TX 78154 | Apr. 12, 2017 | 480269
Harris (FEMA Docket No.: B-1700) | Unincorporated areas of Harris County (16-06-3975P) | The Honorable Edward M. Emmett, Harris County Judge, 1001 Preston Street, Suite 911, Houston, TX 77002 | Harris County Permit Office, 10555 Northwest Freeway, Suite 120, Houston, TX 77092 | Apr. 14, 2017 | 480287
Harris (FEMA Docket No.: B-1700) | Unincorporated areas of Harris County (17-06-0582X) | The Honorable Edward M. Emmett, Harris County Judge, 1001 Preston Street, Suite 911, Houston, TX 77002 | Harris County Permit Office, 10555 Northwest Freeway, Suite 120, Houston, TX 77092 | Apr. 14, 2017 | 480287
Travis (FEMA Docket No.: B-1672) | City of Austin (16-06-2294P) | The Honorable Steve Adler, Mayor, City of Austin, P.O. Box 1088, Austin, TX 78767 | Watershed Engineering Division, 505 Barton Springs Road, 12th Floor, Austin, TX 78704 | Apr. 3, 2017 | 480624
Travis (FEMA Docket No.: B-1700) | City of Pflugerville (16-06-3121P) | The Honorable Jeff Coleman, Mayor, City of Pflugerville, P.O. Box 589, Pflugerville, TX 78660 | Development Services Department, 201-B East Pecan Street, Pflugerville, TX 78691 | Apr. 10, 2017 | 481028
Washington D.C. (FEMA Docket No.: B-1700) | District of Columbia (16-03-2348P) | The Honorable Muriel Bowser, Mayor, District of Columbia, 1350 Pennsylvania Avenue Northwest, Washington, DC 20004 | Department of Energy and Environment, 1200 1st Street Northeast, 5th Floor, Washington, DC 20002 | Apr. 17, 2017 | 110001

[FR Doc. 2017-15086 Filed 7-18-17; 8:45 am]

BILLING CODE 9110-12-P